DEPARTMENT OF COMMERCE

Office of the Secretary

[Docket No. 050214038-5038-01]

Strengthening America's Communities Advisory Committee

AGENCY: Office of the Secretary, Department of Commerce.

ACTION: Notice of request for nominations.

SUMMARY: On February 9, 2005, the President's Domestic Policy Council requested the Secretary of Commerce (the “Secretary”) to form the Strengthening America's Communities Advisory Committee (the “Committee”). The objectives and duties of the Committee will be to provide advice and recommendations to the Secretary, and to develop a comprehensive written report of policy parameters to assist in implementing the President's Strengthening America's Communities Initiative (the “Initiative”), including advising on its legislation, regulations and other guidance. The Committee's report will encompass all aspects of the envisioned Initiative, including policy findings and declarations, organizational structure, eligibility, program delivery, monitoring and performance measures. The Committee is expected to deliver its report to the Secretary by May 31, 2005.

This notice seeks nominations for persons to serve on the Committee. The Committee is intended to have a balanced membership from diverse backgrounds and geographical regions, including the private sector, state, local and tribal government officials, community-based organizations, academia and the research community. Nominees should possess an extensive knowledge of, and background in, the fields of rural or urban economic, social and community development. Nominees should also possess economic, social and community development policy experience, leadership and organizational skills. The SUPPLEMENTARY INFORMATION section of this notice provides additional Committee and membership information, as well as the evaluation criteria for selecting members and the specific instructions for submitting nominations.

DATES: Nominations must be received by the Department of Commerce at the address listed below no later than 4 p.m. (e.s.t.) on March 11, 2005.

ADDRESSES: Nominations pursuant to this Request for Nominations may be submitted by (i) postal mail, (ii) facsimile, or (iii) e-mail. Please submit nominations by postal mail to David A. Sampson, Assistant Secretary for Economic Development, Economic Development Administration, Department of Commerce, Room 7800, 1401 Constitution Avenue, NW., Washington, DC 20230. Nominations may be submitted via facsimile to (202) 273-4723; all facsimiles should be addressed to the attention of Assistant Secretary for Economic Development David A. Sampson. E-mail submissions must be addressed to saci@eda.doc.gov and should include all nomination materials (including attachments) in a single transmission. The Department strongly encourages applicants to submit nominations by facsimile or e-mail. Nominations sent by regular mail may be substantially delayed in delivery, since all regular mail sent to the Department is subject to extensive security screening.

FOR FURTHER INFORMATION CONTACT: The Office of Chief Counsel, Economic Development Administration, Department of Commerce, Room 7005, 1401 Constitution Avenue, NW., Washington DC 20230, telephone (202) 482-4687.

SUPPLEMENTARY INFORMATION: On February 3, 2005, the Secretary of Commerce and the Secretary of Housing and Urban Development jointly announced the Initiative. The Initiative proposes to transfer and consolidate 18 Federal economic and community development programs from the Departments of Agriculture, Commerce, Health and Human Services, Housing and Urban Development and Treasury within the Department of Commerce (the “Department”), ultimately comprising a $3.71 billion unified grant program.

By letter dated February 9, 2005, the President's Domestic Policy Council requested the Secretary to form the Committee. The Department is forming the Committee pursuant to this letter and under the authority of the Federal Advisory Committee Act, as amended (“FACA”) (5 U.S.C. App. 2). The following provides information about the Committee, its membership and the nomination process.

Objectives and Duties

The objectives and duties of the Committee will be to provide advice and recommendations to the Secretary, and to develop a comprehensive written report of policy parameters to assist in implementing the Initiative, including advising on its legislation, regulations and other guidance. The Committee's report will encompass all aspects of the envisioned Initiative, including policy findings and declarations, organizational structure, eligibility, program delivery, monitoring and performance measures. The Committee is expected to deliver its report to the Secretary by May 31, 2005, although this time frame may change. Thereafter, the Committee may be asked to advise the Secretary on additional matters relating to the Initiative.

Membership

Members of the Committee are appointed by and serve at the discretion of the Secretary. It is expected that the committee will consist of no more than 25 members. No employee of the Federal government may serve as a member of the Committee. The Secretary will designate a member or members to serve as the Chairperson or Co-Chairpersons of the Committee. Members are expected to serve for the full tenure of the Committee, expected to last two years. The Committee intends to have a balanced membership from diverse backgrounds and geographical regions, including the private sector, State, local and tribal government officials, urban or rural community-based organizations, academia and the research community. Members should possess an extensive background in the fields of economic, social and community skills in these fields. Meeting attendance and active participation in the activities of the Committee are essential.

Administrative Provisions

Members shall serve without compensation, but shall be allowed reimbursement for reasonable, Committee-related travel expenses, including a per diem in lieu of subsistence, as authorized by 5 U.S.C. 5703 (as amended) for persons serving intermittently in Federal government service. Members must undergo a criminal background check. Members will serve as “special government employees” (“SGEs”) and must comply with certain Federal ethics statutes and regulations, which include completing a confidential financial disclosure form to identify any conflicts of interest (or appearances thereof) between the individual's financial affiliations and holdings and his or her service on the Committee. Meetings shall be held at the call of the Chairperson or Co-Chairpersons (with the approval of the Designated Federal Officer (“DFO”)) until the Committee presents its comprehensive report to the Secretary; thereafter, the Committee will meet at the call of the Chair (with the approval of the DFO) at least annually. The Department and its various operating units shall provide the Committee with administrative and staff services, support and facilities to the extent necessary for the Committee to fulfill its objectives and duties and to the extent permitted by law. Once the Committee is officially formed, the full text of the Committee Charter may be viewed on the Department's Web site at http://www.doc.gov.

Evaluation Criteria and Application Procedure

This notice requests nominations of persons to serve on the Committee. The Secretary may also consider nominations from sources other than this Request for Nominations. Self-nominations are acceptable. Nominations submitted from sources other than this Request for Nominations will be evaluated under the same evaluation criteria as those submitted in response to this Request for Nominations. In evaluating nominations, the Secretary shall consider the nominee's (i) technical expertise, educational background, policy roles and leadership skills in the fields of rural or urban economic, social and community development, (ii) experience in working with public-private partnerships and grant-based economic development, and (iii) such other experience and backgrounds as the Secretary deems relevant for service on the Committee.

Each nomination submission pursuant to this Request for Nominations must include: (i) The proposed Committee member's name, address, telephone and fax numbers, e-mail address (if available) and organizational affiliation (if any); (ii) a cover letter describing the nominee's qualifications and interest in serving on the Committee; (iii) the nominee's curriculum vitae or resume; and (iv) no more than three supporting letters describing the nominee's qualifications and interest in serving on the Committee. Nominations must be received no later than 4 p.m. (e.s.t.) on March 11, 2005. See ADDRESSES for the address, facsimile number and e-mail address where nominations may be submitted.

Privacy Act

Section 301 of Title 5 United States Code and 15 CFR part 4, subpart B authorize and govern collection of this information. The primary use of this information is to allow officials of the Department of Commerce and its operating units to review applications and to conduct vetting of applicants to make decisions concerning the nomination or renomination of candidates for membership on the Advisory Committee. Records may be disclosed under the following routine use circumstances: (1) To any Federal, State, or local agency maintaining civil, criminal, or other relevant enforcement information, if necessary to obtain information relevant to a Department decision concerning the assignment, hiring, or retention of an individual; the issuance of a security clearance; the letting of a contract; or the issuance of a license, grant, or benefit. (2) To any Federal, State, local, or foreign agency charged with the responsibility of investigating or prosecuting any violation or potential violation of law or contract; whether civil, criminal, or regulatory in nature; and whether arising by general statute or particular program statute; or contract, rule, regulation, or order, to protect the interests of the Department. (3) To any Federal, State, local, or international agency, in response to its request, in connection with the assignment, hiring, or retention of an individual, the issuance of a security clearance, the reporting of an investigation of an individual, the letting of a contract, or any other benefit of the requesting agency, to the extent that the information is relevant and necessary to the requesting agency's decisions on the matter. (4) To a Member of Congress submitting a request involving an individual when the individual has requested assistance from the Member with respect to the subject matter of the record. (5) To the Department of Justice in connection with determining whether disclosure is of the record is required under the Freedom of Information Act.

Collection of this information, including your Social Security number is voluntary but failure to furnish it will result in your application not being considered. Collection of your Social Security number is authorized under Executive Order No. 9397. The Department will use this number to distinguish you from other members of the public who may have the same or similar name.

Dated: February 24, 2005.
Theodore W. Kassinger,
Deputy Secretary of Commerce.

[FR Doc. 05-3976 Filed 2-28-05; 8:45 am]

BILLING CODE 3510-24-P